DEPARTMENT OF COMMERCE

International Trade Administration

[A-489-807]

Certain Steel Concrete Reinforcing Bars from Turkey; Partial Rescission of Antidumping Duty Administrative Review

AGENCY: Import Administration, International Trade Administration, Department of Commerce.

EFFECTIVE DATE: November 19, 2008.

FOR FURTHER INFORMATION CONTACT: Elizabeth Eastwood, AD/CVD Operations, Office 2, Import Administration, International Trade Administration, U.S. Department of Commerce, 14th Street and Constitution Avenue, NW, Washington, DC, 20230; telephone (202) 482-3874.

SUPPLEMENTARY INFORMATION:

Background

On April 1, 2008, the Department of Commerce (the Department) published in the Federal Register a notice of “Opportunity to Request Administrative Review” of the antidumping duty order on certain steel concrete reinforcing bars (rebar) from Turkey for the period of review April 1, 2007, through March 31, 2008. See Antidumping or Countervailing Duty Order, Finding, or Suspended Investigation; Opportunity to Request Administrative Review, 73 FR 17317 (April 1, 2008). The Department received timely requests in this proceeding for review from four foreign producers/exporters, including one named Habas Sinai ve Tibbi Gazlar Istihsal Endustrisi A.S. (Habas). The Department also received a timely request for review from Nucor Corporation, Gerdau Ameristeel Corporation, and Commercial Metals Company, domestic producers of rebar and interested parties in this proceeding, for seven producers/exporters, including Habas. On June 4, 2008, the Department published a notice of initiation of administrative review of the antidumping duty order on rebar from Turkey covering all seven companies. See Initiation of Antidumping Duty and Countervailing Duty Administrative Reviews and Request for Revocation in Part, 73 FR 31813 (June 4, 2008). In July 2008, the Department issued the antidumping duty questionnaire to selected respondents. The preliminary results in this segment of the proceeding are currently due no later than April 30, 2009.

Scope of the Order

The product covered by the order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable in the Harmonized Tariff Schedule of the United States (HTSUS) under item numbers 7213.10.000 and 7214.20.000. The HTSUS subheadings are provided for convenience and customs purposes. The written description of the scope of this proceeding is dispositive.

Determination to Rescind, in Part

On November 7, 2008, the Department published its final results for the April 1, 2006, through March 31, 2007, administrative review of the antidumping duty on rebar from Turkey. See Certain Steel Concrete Reinforcing Bars From Turkey; Final Results of Antidumping Duty Administrative Review and Determination To Revoke in Part, 73 FR 66218 (November 7, 2008). In that review, we found that Habas met the requirements of revocation as described in 19 CFR 351.222(b) and, thus, we revoked the order with respect to subject merchandise produced and exported by Habas. As a result of Habas' revocation in 2006-2007 administrative review, we are rescinding the April 1, 2007, through March 31, 2008, administrative review with respect to this company because there is no statutory or regulatory basis to conduct an administrative review for a producer/exporter that has been revoked from the antidumping duty order.

The Department will issue appropriate assessment instructions directly to the U.S. Customs and Border Protection (CBP) 15 days after the publication of this notice. Because we have revoked the order with respect to subject merchandise produced and exported by Habas, we have instructed CBP that entries of such merchandise that were suspended on or after April 1, 2007, should be liquidated without regard to antidumping duties and that all cash deposits collected will be returned with interest.

This notice serves as a reminder to parties subject to an administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published pursuant to sections 751(a) and 777(i) of the Tariff Act of 1930, as amended, and 19 CFR 351.213(d)(4).

Dated: November 12, 2008.
Stephen J. Claeys,
Deputy Assistant Secretary for Import Administration.

[FR Doc. E8-27489 Filed 11-18-08; 8:45 am]

BILLING CODE 3510-DS-S